DEPARTMENT OF EDUCATION

[Docket No.: ED-2022-SCC-0025]

Agency Information Collection Activities; Submission to the Office of Management and Budget for Review and Approval; Comment Request; Carl D. Perkins Career and Technical Education Act State Plan

AGENCY: Office of Career, Technical, and Adult Education (OCTAE), Department of Education (ED).

ACTION: Notice.

SUMMARY: In accordance with the Paperwork Reduction Act of 1995, ED is proposing a revision of a currently approved collection.

DATES: Interested persons are invited to submit comments on or before May 31, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Corinne Sauri, 202-245-6412.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Carl D. Perkins Career and Technical Education Act State Plan.

OMB Control Number: 1830-0029.

Type of Review: A revision of a currently approved collection.

Respondents/Affected Public: State, Local, and Tribal Governments.

Total Estimated Number of Annual Responses: 54.

Total Estimated Number of Annual Burden Hours: 1,620.

Abstract: This request is to revise the information collection that will expire on April 30, 2022. The Department requests to revise the collection tool for one year in order to gather State Plans and annual revisions under Perkins V and makes the following changes: This information collection solicits from all eligible States and outlying areas the State plans required under Title I of the Carl D. Perkins Career and Technical Education Act of 2006, as amended by the Strengthening Career and Technical Education for the 21st Century (Perkins V).

The revision to this collection instrument removes the cover letter, removes the requirements and instructions related to submission of Perkins V State Plans in FY 2019 and FY 2020. The Department recognized that it would take time for eligible agencies to update their CTE systems, policies, and programs to align with the requirements of Perkins V after it was signed into law on July 31, 2018. As such, eligible agencies had the option of submitting a 1-Year Transition Plan in FY 2019 or a Perkins V State Plan that covered 5 years from FY 2019 to FY 2023. Some background information regarding the submission or original State Plans was maintained for historical context, but much of the information related to these original options is no longer relevant as states prepare annual revisions. This revision removes the requirement that eligible agencies submit local formula allocations as part of State Plan revisions in subsequent years. Local formula allocation information is collected annually as part of the OMB-approved Perkins V Consolidated Annual Report (CAR)—(OMB Control Number 1830-0569). The revised tool adds a budget line item related to the percent of funds made available to serve individuals in “other” State institutions. Perkins V requires that eligible agencies make funds available to serve individuals in State institutions, such as (1) State correctional institutions, (2) juvenile justice facilities, and (3) educational institutions that serve individuals with disabilities. Some states provide funds to State institutions beyond the three types of institutions explicitly identified in Perkins V and therefore an additional “other” line item is needed to collect this information. The revised collection also changes references to fiscal years (FYs) to program years (PYs) on the section V.B State Determined Performance Levels (SDPL) Form to reduce confusion among grantees as they set SDPL targets that align to performance data that is ultimately reported based upon program year.

Dated: April 25, 2022.
Kun Mullan,
PRA Coordinator, Strategic Collections and Clearance, Governance and Strategy Division, Office of Chief Data Officer, Office of Planning, Evaluation and Policy Development.

[FR Doc. 2022-09068 Filed 4-27-22; 8:45 am]

BILLING CODE 4000-01-P